DEPARTMENT OF TRANSPORTATION

Surface Transportation Board

[STB Finance Docket No. 33942]

USX Corporation—Control Exemption—Transtar, Inc.

AGENCY: Surface Transportation Board, DOT.

ACTION: Notice of Exemption.

SUMMARY: Under 49 U.S.C. 10502, the Board exempts from the prior approval requirements of 49 U.S.C. 11323-25, the acquisition by USX Corporation of control of Transtar, Inc. and the following five rail carriers, which are currently owned by Transtar, Inc.: (1) The Birmingham Southern Railroad Company; (2) the Elgin, Joliet and Eastern Railway Company; (3) the Lake Terminal Railroad Company; (4) the Union Railroad Company; and (5) the McKeesport Connecting Railroad Company, subject to the employee protection conditions in New York Dock Ry-Control-Brooklyn Eastern Dist., 360 I.C.C. 60 (1979).

DATES: The exemption will be effective December 15, 2000. Petitions for stay must be filed by December 5, 2000. Petitions for reconsideration must be filed by December 20, 2000.

ADDRESSES: Send an original and 10 copies of any comments referring to STB Finance Docket No. 33942 to: Surface Transportation Board, Office of the Secretary, Case Control Unit, 1925 K Street, NW, Washington, DC 20423-0001. In addition, send one copy of any comments to petitioners' representative: Richard J. Munsch, USX Corporation, 600 Grant Street, Room 1500, Pittsburgh, PA 15219-2749

FOR FURTHER INFORMATION CONTACT: Joseph H. Dettmar (202) 565-1600 [TDD for hearing impaired: 1-800-877-8339.]

SUPPLEMENTARY INFORMATION: Additional information is contained in the Board's decision. To purchase a copy of the full decision, write to, call, or pick up in person from: Dā-to-Dā Office Solutions, 1925 K Street, NW, Room 405, Washington, DC 20006. Telephone: (202) 466-5530. [Assistance for the hearing impaired is available through TDD services 1-800-877-8339.]

Board decisions and notices are available on our website at “www.stb.dot.gov.”

Decided: November 22, 2000.
By the Board, Chairman Morgan, Vice Chairman Burkes, and Commissioner Clyburn.
Vernon A. Williams,
Secretary.

[FR Doc. 00-30519 Filed 11-29-00; 8:45 am]

BILLING CODE 4915-00-P